DEPARTMENT OF ENERGY

Federal Energy Regulatory Commission

Combined Notice of Filings #3

Take notice that the Commission received the following electric rate filings:

Docket Numbers: ER25-3224-000.

Applicants: PacifiCorp.

Description: PacifiCorp submits Average System Cost Filing for Sales of Electric Power to the Bonneville Power Administration, 10/01/2025-09/30/2028.

Filed Date: 8/15/25.

Accession Number: 20250815-5225.

Comment Date: 5 p.m. ET 11/19/25.

Docket Numbers: ER25-3225-000.

Applicants: Avista Corporation.

Description: Avista Corporation submits Average System Cost Filing for Sales of Electric Power to the Bonneville Power Administration, 10/01/2026-09/30/2028.

Filed Date: 8/15/25.

Accession Number: 20250815-5226.

Comment Date: 5 p.m. ET 11/19/25.

Docket Numbers: ER26-484-000.

Applicants: PJM Interconnection, L.L.C.

Description: eTariff Filing.

Filed Date: 11/12/25.

Accession Number: 20251112-5273.

Comment Date: 5 p.m. ET 12/3/25.

Docket Numbers: ER26-487-000.

Applicants: PJM Interconnection, L.L.C.

Description: § 205(d) Rate Filing: Notice of Cancellation of GIA, SA No. 7398; Queue No. AG1-487 to be effective 11/15/2025.

Filed Date: 11/12/25.

Accession Number: 20251112-5211.

Comment Date: 5 p.m. ET 12/3/25.

Docket Numbers: ER26-488-000.

Applicants: Public Service Company of Colorado.

Description: § 205(d) Rate Filing: 2025-11-12 PSC-PSCoES—Rocky Mtn Energy Cntr—Amended LGIA—302 to be effective 11/13/2025.

Filed Date: 11/12/25.

Accession Number: 20251112-5247.

Comment Date: 5 p.m. ET 12/3/25.

Docket Numbers: ER26-489-000.

Applicants: PJM Interconnection, L.L.C.

Description: § 205(d) Rate Filing: Original NSA, SA No. 7768; Project Identifier No. AC2-123/AE2-326 to be effective 10/15/2025.

Filed Date: 11/12/25.

Accession Number: 20251112-5277.

Comment Date: 5 p.m. ET 12/3/25.

Docket Numbers: ER26-490-000.

Applicants: AEP Texas Inc.

Description: § 205(d) Rate Filing: AEPTX-LCRA TSC (Parker) Facilities Development Agreement to be effective 10/15/2025.

Filed Date: 11/12/25.

Accession Number: 20251112-5308.

Comment Date: 5 p.m. ET 12/3/25.

Docket Numbers: ER26-492-000.

Applicants: Gratiot County Wind LLC.

Description: § 205(d) Rate Filing: Second Amendment to Co-Tenancy and Shared Facilities Agreement to be effective 11/5/2025.

Filed Date: 11/12/25.

Accession Number: 20251112-5323.

Comment Date: 5 p.m. ET 12/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 12, 2025.
Carlos D. Clay,
Deputy Secretary.

[FR Doc. 2025-19950 Filed 11-14-25; 8:45 am]

BILLING CODE 6717-01-P